DEPARTMENT OF LABOR

Employment and Training Administration

[TA-W-71,170]

Corning, Inc. Including On-Site Leased Workers From Adecco, Pro Unlimited, Piedmont Prime Care Computer Task Group and Guardsmark Danville, VA; Amended Certification Regarding Eligibility To Apply for Worker Adjustment Assistance

In accordance with Section 223 of the Trade Act of 1974, as amended (“Act”), 19 U.S.C. 2273, the Department of Labor issued a Certification of Eligibility to Apply for Worker Adjustment Assistance on December 8, 2009, applicable to workers of Corning, Inc., including on-site leased workers from Adecco, Pro Unlimited, Piedmont Prime Care, and Computer Task Group, Danville, Virginia. The notice will soon be published in the Federal Register.

At the request of the State Agency, the Department reviewed the certification for workers of the subject firm. The workers are engaged in activities related to the production of glass and ceramics.

The company reports that on-site leased workers from Guardsmark were employed on-site at the Danville, Virginia location of Corning, Inc. The Department has determined that these workers were sufficiently under the control of the subject firm to be considered leased workers.

Based on these findings, the Department is amending this certification to include workers leased from Guardsmark working on-site at the Danville, Virginia location of Corning, Inc. The amended notice applicable to the TA-W-71,170 is hereby issued as follows:

All workers of Corning, Inc., including on-site leased workers from Adecco, Pro Unlimited, Piedmont Prime Care, Computer Task Group and Guardsmark, Danville, Virginia, who became totally or partially separated from employment on or after June 10, 2008, through December 8, 2011, and all workers in the group threatened with total or partial separation from employment on date of certification through two years from the date of certification, are eligible to apply for adjustment assistance under Chapter 2 of Title II of the Trade Act of 1974, as amended.

Signed in Washington, DC, this 13th day of January 2010.
Elliott S. Kushner,
Certifying Officer, Division of Trade Adjustment Assistance.

[FR Doc. 2010-1888 Filed 1-29-10; 8:45 am]

BILLING CODE 4510-FN-P